U.S. DEPARTMENT OF COMMERCE

Foreign-Trade Zones Board

Internet Address for Application Formats

On November 19, 2013, the Foreign-Trade Zones (FTZ) Board published a notice in the Federal Register pertaining to the change of the name “Import Administration” to “Enforcement and Compliance” within the Department of Commerce. As a result of that change, certain internet addresses related to the FTZ Board's Web site have changed. The updated internet address for the FTZ Board's application formats (which continue to be effective pursuant to the March 25, 2013, approval of information-collection authority by the Office of Management and Budget) is http://enforcement.trade.gov/ftzpage/applications.html.

Any questions regarding the FTZ Board's application formats—including any difficulty in accessing the formats via the internet address referenced above—may be addressed to the Board's staff at (202) 482-2862 or ftz@trade.gov.

Dated: July 10, 2014.
Andrew McGilvray,
Executive Secretary.

[FR Doc. 2014-16771 Filed 7-15-14; 8:45 am]

BILLING CODE 3510-DS-P